DEPARTMENT OF AGRICULTURE

Forest Service

Eleven Point Resource Advisory Committee

AGENCY: Forest Service, Agriculture (USDA).

ACTION: Notice of meeting.

SUMMARY: The Eleven Point Resource Advisory Committee (RAC) will hold a public meeting according to the details shown below. The committee is authorized under the Secure Rural Schools and Community Self-Determination Act (the Act) and operates in compliance with the Federal Advisory Committee Act. The purpose of the committee is to improve collaborative relationships and to provide advice and recommendations to the Forest Service concerning projects and funding consistent with title II of the Act, as well as make recommendations on recreation fee proposals for sites on the Mark Twain National Forest, consistent with the Federal Lands Recreation Enhancement Act.

DATES: An in-person and virtual meeting will be held on February 26, 2025, 1 p.m. to 3 p.m. central standard time.

Written and Oral Comments: Anyone wishing to provide in-person and/or virtual oral comments must pre-register by 4:30 p.m. central standard time on February 17, 2025. Written public comments will be accepted by 4:30 p.m. Central Standard Time on February 17, 2025. Comments submitted after this date will be provided by the Forest Service to the committee, but the committee may not have adequate time to consider those comments prior to the meeting.

All committee meetings are subject to cancellation. For status of the meeting prior to attendance, please contact the person listed under FOR FURTHER INFORMATION CONTACT.

ADDRESSES: This meeting will be held in person at the Mark Twain National Forest Supervisor's Office, located at 401 Fairgrounds Road, Rolla, Missouri, 65401. The public may also join virtually via webcast, teleconference, videoconference and/or HSIN virtual meeting at https://www.fs.usda.gov/main/mtnf/workingtogether/advisorycommittees.

Written Comments: Written comments must be sent by email to kimberly.houf@usda.gov or via mail (postmarked) to Kimberly Houf, Mark Twain National Forest, 401 Fairgrounds Road, Rolla, MO 65401. The Forest Service strongly prefers comments be submitted electronically.

Oral Comments: Persons or organizations wishing to make in-person oral comments must pre-register by 4:30 p.m. central standard time on February 17, 2025, and speakers can only register for one speaking slot. Requests to pre-register for oral comments must be sent by email to kimberly.houf@usda.gov or via mail (postmarked) to Kimberly Houf, Mark Twain National Forest, 401 Fairgrounds Road, Rolla, MO 65401.

FOR FURTHER INFORMATION CONTACT: Michael Crump, Designated Federal Officer, by phone at (573) 341-7413 or email at michael.crump@usda.gov; or Kimberly Houf, RAC Coordinator at (573) 261-9714 or email at kimberly.houf@usda.gov.

SUPPLEMENTARY INFORMATION: The purpose of the meeting is to:

1. Hear from title II project proponents and discuss title II project proposals;

2. Make funding recommendations on title II projects; and

3. Approve meeting minutes.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section, or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the committee have taken into account the needs of the diverse groups served by the USDA, membership shall include, to the extent practicable, individuals with demonstrated ability to represent the many communities, identities, races, ethnicities, backgrounds, abilities, cultures, and beliefs of the American people, including underserved communities. USDA is an equal opportunity provider, employer, and lender.

Dated: January 14, 2025.
Cikena Reid,
USDA Committee Management Officer.

[FR Doc. 2025-01285 Filed 1-17-25; 8:45 am]

BILLING CODE 3411-15-P